DEPARTMENT OF ENERGY

Federal Energy Regulatory Commission

Notice; Sunshine Act Meeting

February 14, 2001.

The following notice of meeting is published pursuant to section 3(A) of the Government in the Sunshine Act (Pub. L. No. 94-409), 5 U.S.C. 552B:

Agency Holding Meeting: Federal Energy Regulatory Commission.

Date and Time: February 21, 2001, 10 a.m.

Place: Room 2C, 888 First Street, NE., Washington, DC 20426.

Status: Open.

Matters to Be Considered: Agenda.

Note: Items listed on the agenda may be deleted without further notice.

Contact Person for More Information: David P. Boergers, Secretary, Telephone (202) 208-0400; for a recording listing items stricken from or added to the meeting, call (202) 208-1627.

This is a list of matters to be considered by the Commission. It does not include a listing of all papers relevant to the items on the agenda; however, all public documents may be examined in the reference and information center.

760TH—Meeting February 21, 2001, Regular Meeting (10 a.m.)

Consent Agenda—Markets, Tariffs and Rates—Electric

CAE-1.

Docket# ER01-761, 000, Southern California EDISON Company

CAE-2.

Omitted

CAE-3.

Docket# ER01-724, 000, California Independent System Operator Corporation

Other#s EL01-14, 000, City of Vernon, California v. California Independent System Operator Corporation

CAE-4.

Docket# ER01-783, 000, Pacific Gas and Electric Company

CAE-5.

Omitted

CAE-6.

Docket# ER01-789, 000, PJM Interconnection, L.L.C.

CAE-7.

Docket# ER01-845, 000, Firstenergy Generation Corporation

CAE-8.

Docket# ER01-827, 000, Wisconsin Energy Corporation Operating Companies

CAE-9.

Docket# ER01-842, 000, First Energy Corporation on behalf of: American Transmission Systems, Inc., the Cleveland Electric Illuminating Company, Mid-Atlantic Energy Development Company, Ohio Edison Company, Pennsylvania Power Company, the Toledo Edison Company, Firstenergy Services Corporation, Firstenergy Generation Corporation and Firstenergy Nuclear Operating Company

CAE-10.

Docket# ER01-819, 000, California Independent System Operator Corporation

Other#s ER00-2019, 000, California Independent System Operator Corporation

ER01-831, 000, San Diego Gas & Electric Company

ER01-832, 000, Southern California Edison Company

ER01-839, 000, Pacific Gas & Electric Company

CAE-11.

Docket# ER01-852, 000, Twelvepole Creek, LLC

CAE-12.

Docket# ER01-651, 000, Southwestern Electric Power Company

Other#s ER01-651, 001, Southwestern Electric Power Company

CAE-13.

Docket# ER01-871, 000, California Independent System Operator Corporation

CAE-14.

Omitted

CAE-15.

Omitted

CAE-16.

Docket# ER01-896, 000, San Joaquin Cogen Limited

Other#s ER00-2998, 001, Southern Company Services, Inc.

ER00-2999, 001, Southern Company Services, Inc.

ER00-3000, 001, Southern Company Services, Inc.

ER00-3001, 001, Southern Company Services, Inc.

CAE-17.

Docket# ER01-912, 000, Central Maine Power Company

CAE-18.

Docket# ER01-171, 000, Consumers Energy Company and CMS Marketing, Services and Trading Company

Other#s ER01-171, 001, Consumers Energy Company and CMS Marketing, Services and Trading Company

CAE-19.

Docket# ER01-745, 000, New England Power Company

Other#s ER01-745, 001, New England Power Company

CAE-20.

Docket# ER01-794, 000, Duke Energy Corporation

CAE-21.

Docket# ER01-723, 000, Utilicorp United Inc.

CAE-22.

Omitted

CAE-23.

Docket# ER00-2367, 000, Ameren Services Company

CAE-24.

Docket# ER01-844, 000, San Diego Gas & Electric Company

CAE-25.

Docket# ER99-4415, 005, Illinois Power Company

CAE-26.

Docket# EL98-47, 000, Westmoreland-LG&E Partners

Other#s QF92-180, 004, Westmoreland-LG&E Partners

CAE-27.

Docket# EC01-52, 000, Firstenergy Corporation, on behalf of: American Transmission Systems, Inc., the Cleveland Electric Illuminating Company, Mid-Atlantic Energy Development Company, Ohio Edison Company, Pennsylvania Power Company, the Toledo Edison Company, Firstenergy Services Corporation, Firstenergy Generation Corporation and Firstenergy Nuclear Operating Company

CAE-28.

Docket# ER01-200, 001, Cinergy Services, Inc.

CAE-29.

Docket# ER01-284, 001, Wolverine Power Supply Cooperative, Inc.

CAE-30.

Docket# ER01-282, 001, Duke Energy Corporation

Other#s ER01-283, 001, Duke Energy Corporation

ER01-280, 000, Duke Energy Corporation

ER01-281, 000, Duke Energy Corporation

ER01-282, 000, Duke Energy Corporation

ER01-283, 000, Duke Energy Corporation

ER01-291, 000, Duke Energy Corporation

ER01-292, 000, Duke Energy Corporation

CAE-31.

Docket# ER01-313, 002, California Independent System Operator Corporation

Other#s ER01-424, 002, Pacific Gas and Electric Company

CAE-32.

Docket# ER01-276, 001, Pacific Gas and Electric Company

CAE-33.

Omitted

CAE-34.

Docket# ER00-2413, 001, American Electric Power Service Corporation

CAE-35.

Docket# ER00-2454, 001, Wisconsin Electric Power Company

CAE-36.

Docket# EL00-101, 001, New Horizon Electric Cooperative, Inc. v. Duke Power Company

CAE-37.

Docket# ER00-3435, 001, Carolina Power & Light Company

CAE-38.

Docket# ER00-2019, 003, California Independent System Operator Corporation

Other#s EL00-105, 002, City of Vernon, California

CAE-39.

Docket# ER93-150, 017, Boston Edison Company

Other#s EL93-10, 010, Boston Edison Company

CAE-40.

Docket# ER00-3771, 001, Firstenergy Operating Companies

CAE-41.

Docket# EL00-62, 015, ISO New England Inc.

CAE-42.

Docket# ER01-247, 003, Virginia Electric and Power Company

Other#s ER01-247, 004, Virginia Electric and Power Company

CAE-43.

Docket# EC01-41, 001, PG&E National Energy Group, LLC and PG&E National Energy Group, Inc. on behalf of themselves and their public utility subsidiaries

Other#s EC01-49, 001, PG&E National Energy Group, Inc., PG&E Enterprises, and PG&E Shareholdings, Inc. on behalf of themselves and their public utility subsidiaries

CAE-44.

Docket# ER99-28, 004, Sierra Pacific Power Company

Other#s EL99-38, 003, Sierra Pacific Power Company

CAE-45.

Docket# OA01-2, 000, Maine Electric Power Company

CAE-46.

Docket# OA01-1, 000, Central Maine Power Company

CAE-47.

Docket# EL01-24, 000, New York Independent System Operator, Inc.

CAE-48.

Omitted

CAE-49.

Docket# EL98-66, 000, East Texas Electric Cooperative, Inc. v. Central and South West Services, Inc., Central Power and Light Company, West Texas Utilities Company, Public Service Company of Oklahoma and Southwestern Electric Power Company

CAE-50.

Docket# EL00-99, 000, Maine Public Utilities Commission, United Illuminating Company and Bangor Hydro-Electric Company v. ISO New England, Inc.

Other#s EL00-100, 000, Maine Public Utilities Commission, United Illuminating Company and Bangor Hydro-Electric Company v. ISO New England, Inc.

EL00-112, 000, Maine Public Utilities Commission, United Illuminating Company and Bangor Hydro-Electric Company v. ISO New England, Inc.

CAE-51.

Docket# EL01-16, 000, Pontook Operating Limited Partnership v. Public Service Company of New Hampshire

CAE-52.

Docket# EL99-26, 000, Hydro Investors, Inc. v. Trafalgar Power, Inc.

Other#s QF87-499, 001, Trafalgar Power, Inc.

QF87-500, 001, Trafalgar Power, Inc.

QF87-501, 001, Trafalgar Power, Inc.

QF88-413, 001, Trafalgar Power, Inc.

QF88-414, 001, Trafalgar Power, Inc.

QF88-415, 001, Trafalgar Power, Inc.

QF88-416, 001, Trafalgar Power, Inc.

CAE-53.

Docket# OA97-140, 001, Seminole Electric Cooperative, Inc.

CAE-54.

Docket# ER00-980, 000, Bangor Hydro-Electric Company

CAE-55.

Docket# ER01-322, 002, San Diego Gas & Electric Company

CAE-56.

Docket# ER99-1303, 000, St. Joseph Light & Power Company

Other#s NJ97-2005, Omaha Public Power District

ER98-3709, 000, Mid-Continent Area Power Pool

ER98-3709, 001, Mid-Continent Area Power Pool

ER98-3709, 002, Mid-Continent Area Power Pool

ER99-1304, 000, Utilicorp United, Inc.

ER99-1305, 000, Utilicorp United, Inc.

ER99-1306, 000, Otter Tail Power Company

ER99-1311, 000, Minnesota Power, Inc.

ER99-1313, 000, Northern States Power Company (Minnesota) and Northern States Power Company (Wisconsin)

ER99-1332, 000, Northwestern Public Service Company

ER99-1334, 000, Alliant Services Company on behalf of IES Utilities, Inc., Interstate Power Company and Wisconsin Power and Light Company

ER99-1344, 000, Midamerican Energy Company

ER99-1354, 000, Montana-Dakota Utilities Company

CAE-57.

Docket# EC96-19, 043, California Independent System Operator Corporation

Other#s ER96-1663, 044, California Independent System Operator Corporation

Consent Agenda—Markets, Tariffs and Rates—Gas

CAG-1.

Omitted

CAG-2.

Docket# GT01-9, 000, Kern River Gas Transmission Company

CAG-3.

Docket# RP01-214, 000, Northwest Pipeline Corporation

CAG-4.

Omitted

CAG-5.

Docket# RP01-212, 000, Gulf South Pipeline Company, LP

CAG-6.

Omitted

CAG-7.

Docket# RP00-162, 008, Panhandle Eastern Pipe Line Company

CAG-8.

Docket# RP01-134, 001, Texas Gas Transmission Corporation

Other#s RP00-260, 005, Texas Gas Transmission Corporation

RP00-260, 006, Texas Gas Transmission Corporation

RP01-135, 001, Texas Gas Transmission Corporation

CAG-9.

Docket# RP01-169, 001, Northern Natural Gas Company

CAG-10.

Omitted

CAG-11.

Docket# RP99-326, 001, Tennessee Gas Pipeline Company

CAG-12.

Docket# RP00-316, 002, Kinder Morgan Interstate Gas Transmission LLC

Other#s RP00-343, 002, Kinder Morgan Interstate Gas Transmission LLC

CAG-13.

Docket# RP00-559, 002, Reliant Energy Gas Transmission Company

CAG-14.

Docket# RP99-507, 006, Amoco Energy Trading Corporation, Amoco Production Company and Burlington Resources Oil & Gas Company v. El Paso Natural Gas Company

Other#s RP99-507, 004, Amoco Energy Trading Corporation, Amoco Production Company and Burlington Resources Oil & Gas Company v. El Paso Natural Gas Company

RP99-507, 005, Amoco Energy Trading Corporation, Amoco Production Company and Burlington Resources Oil & Gas Company v. El Paso Natural Gas Company

RP99-507, 007, Amoco Energy Trading Corporation, Amoco Production Company and Burlington Resources Oil & Gas Company v. El Paso Natural Gas Company

RP99-507, 008, Amoco Energy Trading Corporation, Amoco Production Company and Burlington Resources Oil & Gas Company v. El Paso Natural Gas Company

RP99-507, 009, Amoco Energy Trading Corporation, Amoco Production Company and Burlington Resources Oil & Gas Company v. El Paso Natural Gas Company

RP99-507, 010, Amoco Energy Trading Corporation, Amoco Production Company and Burlington Resources Oil & Gas Company v. El Paso Natural Gas Company

RP00-139, 001, KN Marketing, L.P. v. El Paso Natural Gas Company

RP00-139, 002, KN Marketing, L.P. v. El Paso Natural Gas Company

CAG-15.

Docket# RP98-54, 033, Colorado Interstate Gas Company

CAG-16.

Omitted

CAG-17.

Docket# MG01-17, 000, Maritimes and Northeast Pipeline, L.L.C.

CAG-18.

Docket# MG01-14, 000, Algonquin LNG, Inc.

CAG-19.

Docket# MG01-16, 000, Texas Eastern Transmission Corporation

CAG-20.

Docket# MG01-13, 000, Algonquin Gas Transmission Company

CAG-21.

Docket# MG01-15, 000, East Tennessee Natural Gas Company

CAG-22.

Docket# OR96- ET AL., 000, Arco Products Company, Equilon Enterprises, L.L.C., Mobil Oil Corporation and Texaco Refining and Marketing Inc. v. SFPP, L.P.

Other#s OR96-10, 000, Arco Products Company, Equilon Enterprises, L.L.C., Mobil Oil Corporation and Texaco Refining and Marketing Inc. v. SFPP, L.P.

OR96-17, 000, Ultramar Diamond Shamrock Corporation and Ultramar, Inc. v. SFPP, L.P.

IS98-1, 000, SFPP, L.P.

OR98-1, et al. 000, Arco Products Company, Equilon Enterprises, L.L.C., Mobil Oil Corporation and Texaco Refining and Marketing Inc. v. SFPP, L.P.

OR98-2, 000, Ultramar Diamond Shamrock Corporation and Ultramar, Inc. v. SFPP, L.P.

OR00-8, 001, Ultramar Diamond Shamrock Corporation and ultramar, Inc. v. SFPP, L.P.

OR00-9, 001, Tosco Corporation v. SFPP, L.P.

CAG-23.

Docket# RP01-172, 001, Mojave Pipeline Company

CAG-24.

Docket# RP01-130, 001, Southern Natural Gas Company

CAG-25.

Docket# GT99-26, 001, Tennessee Gas Pipeline Company

Other#s RP96-312, 016, Tennessee Gas Pipeline Company

CAG-26.

Docket# RP00-249, 003, Transwestern Pipeline Company

Consent Agenda—Energy Projects—Hydro

CAH-1.

Docket# P-10551, 085, City of Oswego, New York

CAH-2.

Docket# P-2203, 008, Alabama Power Company

CAH-3.

Docket# P-10813, 051, Town of Summersville, West Virginia

CAH-4.

Omitted

CAH-5.

Docket# P-2304, 005, Phelps-Dodge Morenci, Inc.

CAH-6.

Docket# P-10822, 000, Summit Hydropower

CAH-7.

Docket# P-10823, 000, Summit Hydropower

CAH-8.

Docket# P-2206, 014, Carolina Power & Light Company

Consent Agenda—Energy Projects—Certificates

CAC-1.

Docket# CP00-6, 001, Gulfstream Natural Gas System, L.L.C.

Other#s CP00-6, 000, Gulfstream Natural Gas System, L.L.C.

CP00-7, 000, Gulfstream Natural Gas System, L.L.C.

CP00-7, 001, Gulfstream Natural Gas System, L.L.C.

CP00-8, 000, Gulfstream Natural Gas System, L.L.C.

CP00-8, 001, Gulfstream Natural Gas System, L.L.C.

CAC-2.

Docket# CP00-61, 000, Central New York Oil and Gas Company, LLC

Other#s CP00-62, 000, Central New York Oil and Gas Company, LLC

CP00-63, 000, Central New York Oil and Gas Company, LLC

CP00-65, 000, Tennessee Gas Pipeline Company

CP00-65, 001, Tennessee Gas Pipeline Company

CAC-3.

Docket# CP98-132, 001, Northern Natural Gas Company

CAC-4.

Docket# CP00-51, 003, East Tennessee Natural Gas Company

CAC-5.

Docket# CP01-56, 000, Midwestern Gas Transmission Company

CAC-6.

Docket# CP98-100, 001, Algonquin Gas Transmission Company

CAC-7.

Docket# CP99-580, 002, Southern LNG, Inc.

Other#s CP99-579, 002, Southern LNG, Inc.

CP99-582, 003, Southern LNG, Inc.

CAC-8.

Docket# CP97-256, 008, KN Wattenberg Transmission Limited Liability Company

CAC-9.

Docket# CP95-735, 002, Murphy Exploration & Production Company v. Quivira Gas Company

CAC-10.

Docket# CP98-49, 006, KN Wattenberg Transmission Limited Liability Company

CAC-11.

Omitted

CAC-12.

Docket# CP00-369, 000, Natural Gas Pipeline Company of America

Other#s CP00-379, 000, Natural Gas Pipeline Company of America

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 01-4233 Filed 2-15-01; 11:47 am]

BILLING CODE 6717-01-P